DEPARTMENT OF HOMELAND SECURITY

Federal Emergency Management Agency

[Docket ID FEMA-2016-0002; Internal Agency Docket No. FEMA-B-1600]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: February 24, 2016.
Roy E. Wright,
Deputy Associate Administrator for Insurance and Mitigation, Department of Homeland Security, Federal Emergency Management Agency.

State and county | Location and case No. | Chief executive officer of community | Community map repository | Online location of letter of map revision | Effective date of modification | Community No.
Alabama:
Jefferson | Unincorporated areas of Jefferson County (15-04-9295P) | The Honorable Jimmie Stephens, Chairman, Jefferson County Commission, 716 Richard Arrington Jr. Boulevard North, Birmingham, AL 35203 | Jefferson County Land Development Department, 716 Richard Arrington Jr. Boulevard North, Birmingham, AL 35203 | http://www.msc.fema.gov/lomc | Apr. 14, 2016 | 010217
Arkansas:
Benton | City of Rogers (15-06-1201P) | The Honorable Greg Hines, Mayor, City of Rogers, 301 West Chestnut Street, Rogers, AR 72756 | City Hall, 301 West Chestnut Street, Rogers, AR 72756 | http://www.msc.fema.gov/lomc | Apr. 5, 2016 | 050013
Pulaski | City of Sherwood (14-06-4719P) | The Honorable Virginia Hillman Young, Mayor, City of Sherwood, P.O. Box 6256, Sherwood, AR 72124 | City Hall, 2199 East Kiehl Avenue, Sherwood, AR 72120 | http://www.msc.fema.gov/lomc | Apr. 8, 2016 | 050235
Colorado:
Denver | City and County of Denver (15-08-0294P) | The Honorable Michael B. Hancock, Mayor, City and County of Denver, 1437 Bannock Street, Suite 350, Denver, CO 80202 | Department of Public Works, 201 West Colfax Avenue, Denver, CO 80202 | http://www.msc.fema.gov/lomc | Apr. 15, 2016 | 080046
Fremont | Town of Williamsburg (15-08-0985P) | The Honorable Joshua Baker, Mayor, Town of Williamsburg, 1 John Street, Williamsburg, CO 81226 | City Hall, 1 John Street, Williamsburg, CO 81226 | http://www.msc.fema.gov/lomc | Apr. 14, 2016 | 080028
Fremont | Unincorporated areas of Fremont County (15-08-0985P) | The Honorable Ed Norden, Chairman, Fremont County Board of Commissioners, 615 Macon Avenue, Canon City, CO 81212 | Fremont County Administrator's Office, 615 Macon Avenue, Canon City, CO 81212 | http://www.msc.fema.gov/lomc | Apr. 14, 2016 | 080067
Jefferson | City of Golden (15-08-1205P) | The Honorable Marjorie Sloan, Mayor, City of Golden, 911 10th Street, Golden, CO 80401 | Public Works Department, 1445 10th Street, Golden, CO 80401 | http://www.msc.fema.gov/lomc | Apr. 22, 2016 | 080090
Jefferson | City of Lakewood (15-08-0294P) | The Honorable Bob Murphy, Mayor, City of Lakewood, Lakewood Civic Center South, 480 South Allison Parkway, Lakewood, CO 80226 | Public Works Department, Lakewood Civic Center North, 480 South Allison Parkway, Lakewood, CO 80226 | http://www.msc.fema.gov/lomc | Apr. 15, 2016 | 085075
Larimer | City of Fort Collins (15-08-1293P) | The Honorable Wade Troxell, Mayor, City of Fort Collins, P.O. Box 580, Fort Collins, CO 80522 | Stormwater Utilities Department, 700 Wood Street, Fort Collins, CO 80521 | http://www.msc.fema.gov/lomc | Mar. 28, 2016 | 080102
Delaware:
New Castle | Unincorporated areas of New Castle County (14-03-3246P) | The Honorable Thomas P. Gordon, New Castle County Executive, 87 Reads Way, New Castle, DE 19720 | New Castle County Land Use Department, 87 Reads Way, New Castle, DE 19720 | http://www.msc.fema.gov/lomc | Apr. 15, 2016 | 105085
Florida:
Bay | City of Lynn Haven (15-04-6857P) | The Honorable Margo Anderson, Mayor, City of Lynn Haven, 825 Ohio Avenue, Lynn Haven, FL 32444 | Building Department, 907 Pennsylvania Avenue, Lynn Haven, FL 32444 | http://www.msc.fema.gov/lomc | Apr. 4, 2016 | 120009
Bay | Unincorporated areas of Bay County (15-04-6857P) | The Honorable Guy M. Tunnell, Chairman, Bay County Board of Commissioners, 840 West 11th Street, Panama City, FL 32401 | Bay County Planning and Zoning Department, 840 West 11th Street, Panama City, FL 32401 | http://www.msc.fema.gov/lomc | Apr. 4, 2016 | 120004
Broward | City of Pompano Beach (15-04-4261P) | The Honorable Lamar Fisher, Mayor, City of Pompano Beach, 100 West Atlantic Boulevard, Pompano Beach, FL 33060 | Building Division, 100 West Atlantic Boulevard, Pompano Beach, FL 33060 | http://www.msc.fema.gov/lomc | Apr. 6, 2016 | 120055
Broward | Unincorporated areas of Broward County (15-04-4261P) | The Honorable Tim Ryan, Mayor, Broward County Commission, 115 South Andrews Avenue, Room 413, Fort Lauderdale, FL 33301 | Broward County Building Permitting Division, 1 North University Drive, Suite 201A, Plantation, FL 33324 | http://www.msc.fema.gov/lomc | Apr. 6, 2016 | 125093
Charlotte | Unincorporated areas of Charlotte County (15-04-9981P) | The Honorable Bill Truex, Chairman, Charlotte County Board of Commissioners, 18500 Murdock Circle, Suite 536, Port Charlotte, FL 33948 | Charlotte County Community Development Department, 18500 Murdock Circle, Port Charlotte, FL 33948 | http://www.msc.fema.gov/lomc | Apr. 4, 2016 | 120061
Collier | City of Marco Island, (16-04-0095X) | The Honorable Bob Brown, Chairman, City of Marco Island Council, 50 Bald Eagle Drive, Marco Island, FL 34145 | City Hall, 50 Bald Eagle Drive, Marco Island, FL 34145 | http://www.msc.fema.gov/lomc | Apr. 4, 2016 | 120426
Duval | City of Jacksonville (15-04-A463P) | The Honorable Lenny Curry, Mayor, City of Jacksonville, 117 West Duval Street, Suite 400, Jacksonville, FL 32202 | Development Services Division, 214 North Hogan Street, Room 2100, Jacksonville, FL 32202 | http://www.msc.fema.gov/lomc | Apr. 17, 2016 | 120077
Hillsborough | City of Plant City (15-04-0825P) | The Honorable Rick A. Lott, Mayor, City of Plant City, 302 West Reynolds Street, Plant City, FL 33563 | Engineering Division, 302 West Reynolds Street, Plant City, FL 33563 | http://www.msc.fema.gov/lomc | Apr. 7, 2016 | 120113
Lee | Town of Fort Myers Beach (15-04-6044P) | The Honorable Anita Cereceda, Mayor, Town of Fort Myers Beach, 2525 Estero Boulevard, Fort Myers Beach, FL 33931 | Public Works Department, 2525 Estero Boulevard, Fort Myers Beach, FL 33931 | http://www.msc.fema.gov/lomc | Apr. 4, 2016 | 120673
Lee | Unincorporated areas of Lee County (15-04-5461P) | The Honorable Brian Hamman, Chairman, Lee County Board of Commissioners, District 4, P.O. Box 398, Fort Myers, FL 33902 | Lee County Planning and Zoning Department, 1500 Monroe Street, Fort Myers, FL 33901 | http://www.msc.fema.gov/lomc | Dec. 30, 2015 | 125124
Lee | Unincorporated areas of Lee County (15-04-9971X) | The Honorable Brian Hamman, Chairman, Lee County Board of Commissioners, District 4, P.O. Box 398, Fort Myers, FL 33902 | Lee County Planning and Zoning Department, 1500 Monroe Street, Fort Myers, FL 33901 | http://www.msc.fema.gov/lomc | Mar. 30, 2016 | 125124
Manatee | Unincorporated areas of Manatee County (15-04-3585P) | The Honorable Betsy Benac, Chair, Manatee County Board of Commissioners, 1112 Manatee Avenue West, 9th Floor, Bradenton, FL 34205 | Manatee County Public Works Department, 1022 26th Avenue East, Bradenton, FL 34208 | http://www.msc.fema.gov/lomc | Apr. 5, 2016 | 120153
Miami-Dade | City of Miami (15-04-9564P) | The Honorable Tomás P. Regalado, Mayor, City of Miami, 3500 Pan American Drive, Miami, FL 33133 | Building Department, 444 Southwest 2nd Avenue, 4th Floor, Miami, FL 33130 | http://www.msc.fema.gov/lomc | Mar. 22, 2016 | 120650
Monroe | Unincorporated areas of Monroe County (15-04-9458P) | The Honorable Danny Kolhage, Mayor, Monroe County Board of Commissioners, 530 Whitehead Street, Suite 102, Key West, FL 33040 | Monroe County Building Department, 2798 Overseas Highway, Suite 300, Marathon, FL 33050 | http://www.msc.fema.gov/lomc | Mar. 16, 2016 | 125129
Nassau | Unincorporated areas of Nassau County (15-04-7268P) | The Honorable Pat Edwards, Chairman, Nassau County Board of Commissioners, 96135 Nassau Place, Suite 1, Yulee, FL 32097 | Nassau County Building Department, 96161 Nassau Place, Yulee, FL 32097 | http://www.msc.fema.gov/lomc | Apr. 7, 2016 | 120170
Osceola | City of Kissimmee (14-04-A481P) | The Honorable Jim Swan, Mayor, City of Kissimmee, 101 Church Street, Kissimmee, FL 34741 | Engineering Department, 101 Church Street, Kissimmee, FL 34741 | http://www.msc.fema.gov/lomc | Apr. 15, 2016 | 120190
Osceola | Unincorporated areas of Osceola County (14-04-A481P) | The Honorable Brandon Arrington, Chairman, Osceola County Board of Commissioners, 1 Courthouse Square, Suite 4700, Kissimmee, FL 34741 | Osceola County Stormwater Department, 1 Courthouse Square, Suite 3100, Kissimmee, FL 34741 | http://www.msc.fema.gov/lomc | Apr. 15, 2016 | 120189
St. Johns | Unincorporated areas of St. Johns County (15-04-9919P) | The Honorable Rachael L. Bennett, Chair, St. Johns County Board of Commissioners, 500 San Sebastian View, St. Augustine, FL 32084 | St. Johns County Building Services Division, 4040 Lewis Speedway, St. Augustine, FL 32084 | http://www.msc.fema.gov/lomc | Apr. 13, 2016 | 125147
Georgia:
Columbia | Unincorporated areas of Columbia County (15-04-3832P) | The Honorable Ron C. Cross, Chairman, Columbia County Board of Commissioners, P.O. Box 498, Evans, GA 30809 | Columbia County Planning Department, 630 Ronald Reagan Drive, Evans, GA 30809 | http://www.msc.fema.gov/lomc | Apr. 7, 2016 | 130059
Mississippi:
Rankin | City of Richland (15-04-6709P) | The Honorable Mark Scarborough, Mayor, City of Richland, P.O. Box 180609, Richland, MS 39218 | City Hall, 380 Scarbrough Street, Richland, MS 39218 | http://www.msc.fema.gov/lomc | Apr. 21, 2016 | 280299
North Carolina:
Haywood | Unincorporated areas of Haywood County (15-04-9975P) | The Honorable Mark S. Swanger, Chairman, Haywood County Board of Commissioners, 215 North Main Street, Waynesville, NC 28786 | Haywood County Planning Department, 157 Paragon Parkway, Suite 200, Clyde, NC 28721 | http://www.msc.fema.gov/lomc | Apr. 5, 2016 | 370120
Macon | Town of Highlands (15-04-7513P) | The Honorable Patrick Taylor, Mayor, Town of Highlands, P.O. Box 460, Highlands, NC 28741 | Town Hall, 210 North 4th Street, Highlands, NC 28741 | http://www.msc.fema.gov/lomc | Mar. 11, 2016 | 370574
Union | Town of Waxhaw (15-04-4099P) | The Honorable Stephen E. Maher, Mayor, Town of Waxhaw, P.O. Box 6, Waxhaw, NC 28173 | Town Hall, 1150 North Broome Street, Waxhaw, NC 28173 | http://www.msc.fema.gov/lomc | Mar. 10, 2016 | 370473
Union | Unincorporated areas of Union County (15-04-4099P) | The Honorable Stony Rushing, Chairman, Union County Board of Commissioners, 500 North Main Street, Room 921, Monroe, NC 28112 | Union County Office of Growth Management, Planning Division, 500 North Main Street, Monroe, NC 28112 | http://www.msc.fema.gov/lomc | Mar. 10, 2016 | 370234
Wake | Town of Fuquay-Varina (15-04-2204P) | The Honorable John Byrne, Mayor, Town of Fuquay-Varina, 401 Old Honeycutt Road, Fuquay-Varina, NC 27256 | Engineering Department, 401 Old Honeycutt Road, Fuquay-Varina, NC 27256 | http://www.msc.fema.gov/lomc | Dec. 18, 2015 | 370239
Wake | Unincorporated areas of Wake County (15-04-2204P) | The Honorable James West, Chairman, Wake County Board of Commissioners, P.O. Box 550, Raleigh, NC 27602 | Wake County Environmental Services Department, 336 Fayetteville Street, Raleigh, NC 27601 | http://www.msc.fema.gov/lomc | Dec. 18, 2015 | 370368
Watauga | Town of Blowing Rock (15-04-2144P) | The Honorable J. B. Lawrence, Mayor, Town of Blowing Rock, P.O. Box 47, Blowing Rock, NC 28605 | Planning and Inspections Department, 1038 Main Street, Blowing Rock, NC 28605 | http://www.msc.fema.gov/lomc | Apr. 21, 2016 | 370252
Oklahoma:
Cleveland | City of Moore (15-06-1047P) | The Honorable Stephen O. Eddy, Manager, City of Moore, 301 North Broadway Street, Moore, OK 73160 | City Hall, 301 North Broadway Street, Moore, OK 73160 | http://www.msc.fema.gov/lomc | Apr. 27, 2016 | 400044
Cleveland | City of Oklahoma City (15-06-1047P) | The Honorable Mick Cornett, Mayor, City of Oklahoma City, 200 North Walker Avenue, 3rd Floor, Oklahoma City, OK 73102 | Department of Public Works, 420 West Main Street, Suite 700, Oklahoma City, OK 73102 | http://www.msc.fema.gov/lomc | Apr. 27, 2016 | 405378
Oklahoma | City of Edmond (15-06-3272P) | The Honorable Charles Lamb, Mayor, City of Edmond, P.O. Box 2970, Edmond, OK 73083 | Planning and Public Works Department, 10 South Littler, Edmond, OK 73084 | http://www.msc.fema.gov/lomc | Apr. 7, 2016 | 400252
South Carolina:
Charleston | City of Charleston (15-04-9773P) | The Honorable Joseph P. Riley, Jr., Mayor, City of Charleston, P.O. Box 652, Charleston, SC 29402 | Building Inspections Department, 2 George Street, Charleston, SC 29401 | http://www.msc.fema.gov/lomc | Mar. 28, 2016 | 455412
Charleston | Town of Mount Pleasant, (16-04-0085P) | The Honorable Linda Page, Mayor, Town of Mount Pleasant, 100 Ann Edwards Lane, Mount Pleasant, SC 29464 | Planning and Development Department, 100 Ann Edwards Lane, Mount Pleasant, SC 29464 | http://www.msc.fema.gov/lomc | Apr. 28, 2016 | 455417
South Dakota:
Codington | City of Watertown (15-08-0555P) | The Honorable Steve Thorson, Mayor, City of Watertown, 23 2nd Street Northeast, Watertown, SD 57201 | City Hall, 23 2nd Street Northeast, Watertown, SD 57201 | http://www.msc.fema.gov/lomc | Mar. 22, 2016 | 460016
Codington | Unincorporated areas of Codington County (15-08-0555P) | The Honorable Elmer Brinkman, Chairman, Codington County Board of Commissioners, 14 1st Avenue Southeast, Watertown, SD 57201 | Codington County Planning and Zoning Department, 1910 West Kemp Avenue, Watertown, SD 57201 | http://www.msc.fema.gov/lomc | Mar. 22, 2016 | 460260
Tennessee:
Knox | City of Knoxville (15-04-6041P) | The Honorable Madeline Rogero, Mayor, City of Knoxville, P.O. Box 1631, Knoxville, TN 37901 | Stormwater Engineering Division, 400 Main Street, Suite 480, Knoxville, TN 37902 | http://www.msc.fema.gov/lomc | Apr. 8, 2016 | 475434
Texas:
Bell | City of Temple (15-06-3320P) | The Honorable Danny Dunn, Mayor, City of Temple, 2 North Main Street, Suite 103, Temple, TX 76501 | Engineering Department, 3210 East Avenue H, Building A, Suite 107, Temple, TX 76501 | http://www.msc.fema.gov/lomc | Apr. 12, 2016 | 480034
Collin | City of Frisco (15-06-1583P) | The Honorable Maher Maso, Mayor, City of Frisco, 6101 Frisco Square Boulevard, Frisco, TX 75034 | Engineering Services Department, 6101 Frisco Square Boulevard, Frisco, TX 75034 | http://www.msc.fema.gov/lomc | Mar. 21, 2016 | 480134
Comal | City of New Braunfels (15-06-4062P) | The Honorable Barron Casteel, Mayor, City of New Braunfels, 424 South Castell Avenue, New Braunfels, TX 78130 | Building Division, 424 South Castell Avenue, New Braunfels, TX 78130 | http://www.msc.fema.gov/lomc | Mar. 31, 2016 | 485493
El Paso | City of El Paso (15-06-3494P) | The Honorable Oscar Leeser, Mayor, City of El Paso, 300 North Campbell Street, El Paso, TX 79901 | Land Development Department, 801 Texas Avenue, El Paso, TX 79901 | http://www.msc.fema.gov/lomc | Apr. 14, 2016 | 480214
Grimes | Unincorporated areas of Grimes County (15-06-3274P) | The Honorable Ben Leman, Grimes County Judge, P.O. Box 160, Anderson, TX 77830 | Grimes County Road and Bridge Engineering Department, 1010 Highway 90 South, Anderson, TX 77830 | http://www.msc.fema.gov/lomc | Apr. 14, 2016 | 481173
Johnson | City of Burleson (15-06-3404P) | The Honorable Ken Shetter, Mayor, City of Burleson, 141 West Renfro Street, Burleson, TX 76028 | Development Services Department, 141 West Renfro Street, Burleson, TX 76028 | http://www.msc.fema.gov/lomc | Apr. 18, 2016 | 485459
McClennan | City of Hewitt (15-06-2410P) | The Honorable Ed Passaligo, Mayor, City of Hewitt, 105 Tampico Drive, Hewitt, TX 76643 | City Hall, 105 Tampico Drive, Hewitt, TX 76643 | http://www.msc.fema.gov/lomc | Apr. 4, 2016 | 480458
McClennan | Unincorporated areas of McClennan County (15-06-2410P) | The Honorable Malcolm Duncan Jr., Mayor, City of Waco, 300 Austin Avenue, Waco, TX 76702 | Engineering Services Department, 401 Franklin Avenue, Waco, TX 76701 | http://www.msc.fema.gov/lomc | Apr. 4, 2016 | 480461
Rockwall | City of Rockwall (15-06-0488P) | The Honorable Jim Pruitt, Mayor, City of Rockwall, 385 South Goliad Street, Rockwall, TX 75087 | City Hall, 385 South Goliad Street, Rockwall, TX 75087 | http://www.msc.fema.gov/lomc | Mar. 28, 2016 | 480547
Travis | City of Manor (15-06-2824P) | The Honorable Rita G. Jonse, Mayor, City of Manor, P.O. Box 387, Manor, TX 78653 | City Hall, 201 East Parsons Street, Manor, TX 78653 | http://www.msc.fema.gov/lomc | Apr. 11, 2016 | 481027
Travis | Unincorporated areas of Travis County (15-06-2824P) | The Honorable Sarah Eckhardt, Travis County Judge, P.O. Box 1748, Austin, TX 78767 | Travis County Office of Emergency Management, 5010 Old Manor Road, Austin TX 78723 | http://www.msc.fema.gov/lomc | Apr. 11, 2016 | 481026
Virginia:
Fairfax | Unincorporated areas of Fairfax County (15-03-1692P) | The Honorable Edward L. Long, Jr., Fairfax County Executive, 12000 Government Center Parkway, Fairfax, VA 22035 | Fairfax County Stormwater Planning Division, 12000 Government Center Parkway, Fairfax, VA 22035 | http://www.msc.fema.gov/lomc | Mar. 29, 2016 | 515525

[FR Doc. 2016-05982 Filed 3-16-16; 8:45 am]

BILLING CODE 9110-12-P